DEPARTMENT OF DEFENSE

Department of the Army

[Docket ID USA-2018-HQ-0014]

Privacy Act of 1974; System of Records

AGENCY: Department of the Army, DoD.

ACTION: Notice of a modified system of records.

SUMMARY: The Department of the Army is modifying its system of records notice entitled “Army Career Tracker (ACT), A0350-1b TRADOC”. The Army Career Tracker (ACT) enables Soldiers and Army civilians world-wide with career development and transition resources. ACT provides users with a more efficient and effective way to monitor their career development while allowing leaders to track and advise subordinates on personalized leadership development. As a leader development tool, it integrates data on training, education, and experiential learning from a number of source systems into one personalized and easy to use interface. ACT allows supervisors to track and advise employees on their leadership development and allows career program managers the ability to reach their geographically dispersed careerists. The Total Army Sponsorship Program is also administered through ACT. The sponsorship program provides Soldiers, Army civilians, and their families with resources to facilitate their transition and/or relocation between commands and duty assignments.

DATES: Comments will be accepted on or before July 23, 2018. This proposed action will be effective the date following the end of the comment period unless comments are received which result in a contrary determination.

ADDRESSES: You may submit comments, identified by docket number and title, by any of the following methods:

* Federal Rulemaking Portal: http://www.regulations.gov.

Follow the instructions for submitting comments.

* Mail: Department of Defense, Office of the Chief Management Officer, Directorate of Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Tracy Rogers, Department of the Army, Privacy Office, U.S. Army Records Management and Declassification Agency, 7701 Telegraph Road, Casey Building, Suite 144, Alexandria, VA 22325-3905 or by calling (703) 428-7499.

SUPPLEMENTARY INFORMATION: The Army Career Tracker, initially implemented in 2011, is managed by the U.S. Army Training and Doctrine Command (TRADOC). It was developed under the authority of 5 U.S.C. 4103, Establishment of training programs and 10 U.S.C. 3013, Secretary of the Army. The ACT is a career management and development tool for Army enlisted, Officer, and civilian employees. While use of ACT is required for Soldiers, it is voluntary for the Army civilian workforce. The ACT leverages existing Army systems to capture and present career management data pertaining to training, education, and job assignments; it provides unique capabilities and does not replace or eliminate any other Army system of records. The system allows users to: Search course catalogs in Army training systems to identify courses they want to add to their Individual Development Plans (IDP); create IDP for short and long term goals; map out events, decision points, and outcomes; track progress against known career benchmarks; and receive personalized advice from mentors and leadership. This easy-to-use portal, effectively charts the user's career progression, manages career development activities, and connects the individual to mentors.

Additionally, ACT is the Army enterprise application that automates the sponsorship process for personnel relocations. The system ensures a virtual handshake between transitioning Soldiers and civilians and their designated sponsor prior to departure from the unit of current assignment. Army transitioning personnel utilize ACT to make known their sponsorship needs via the Department of the Army (DA) Form 5434, Sponsorship Program Counseling and Information Sheet, as part of the reassignment management process. The completed DA Form 5434 is transmitted to the gaining unit of assignment to ensure personnel receive information and assistance needed during their relocation. The automated and collaborative functions of the system are used to identify sponsors, send notifications, monitor status, provide reporting mechanism, and conduct individual satisfaction surveys.

This system of records notice is being modified to include four routine uses that were omitted in the previous notice. The additional routine uses are for disclosures to: DoD contractors in the performance of the contract; to the National Archives and Records Administration for records inspection purposes; and to another Federal agency for breach mitigation and notification. In addition, the authorities were updated to include 10 U.S.C. 1056, Relocation Assistance, which is the implementing statute for Army Regulation 600-8-8, The Total Army Sponsorship Program. The categories of records was revised to clarify what information is collected on the DA Form 5434, and the description of the safeguards was expanded to address administrative and physical measures that are currently utilized to protect the system of records. All other changes to this notice are administrative in nature. The DoD is publishing the notice in its entirety to comply with current standards and formatting requirements prescribed in OMB Circular A-108, “Federal Agency Responsibilities for Review, Reporting, and Publication under the Privacy Act.”

The Department of the Army's notices for system of records subject to the Privacy Act of 1974, as amended, have been published in the Federal Register and are available from the address in FOR FURTHER INFORMATION CONTACT or from the Defense Privacy, Civil Liberties, and Transparency Division website at http://defense.gov/privacy.

The proposed systems reports, as required by the Privacy Act, as amended, were submitted on April 27, 2018, to the House Committee on Oversight and Government Reform, the Senate Committee on Homeland Security and Governmental Affairs, and the Office of Management and Budget (OMB) pursuant to OMB Circular No. A-108, “Federal Agency Responsibilities for Review, Reporting, and Publication Under the Privacy Act,” December 23, 2016 (December 23, 2016, 81 FR 94424).

Dated: June 19, 2018.
Aaron T. Siegel,
Alternate OSD Federal Register Liaison Officer, Department of Defense.

SYSTEM NAME AND NUMBER

Army Career Tracker (ACT), A0350-1b TRADOC.

SECURITY CLASSIFICATION:

Unclassified.

SYSTEM LOCATION:

Army commands, installations, and activities. Official mailing addresses are published as an appendix to the Army's compilation of systems of records notices.

SYSTEM MANAGER(S):

Commander, Headquarters, U.S. Army Training and Doctrine Command, Institute of Noncommissioned Officer Professional Development Office (ATCG-NCN), 950 Jefferson Ave., Fort Eustis, VA 23604-5704.

AUTHORITY FOR MAINTENANCE OF THE SYSTEM:

5 U.S.C. 4103, Establishment of training programs; 10 U.S.C. 1056, Relocation assistance programs; 10 U.S.C. 3013, Secretary of the Army; Department of Defense Directive 1322.18, Military Training; Army Regulation (AR) 350-1, Army Training and Leader Development; AR 600-20, Army Command Policy; AR 600-8-8, The Total Army Sponsorship Program; AR 690-950, Career Management; and E.O. 9397 (SSN), as amended.

PURPOSE(S) OF THE SYSTEM:

Army Career Tracker (ACT) is a leadership development tool that integrates training and education into one personalized, easy-to-use website. ACT receives training, education, experiential learning, personnel, and biographical data from several Army information systems and presents a comprehensive and personalized view of Noncommissioned Officer, Officer, and Army civilian career history, course enrollment, course completion, course catalog, and professional development model information. Users can search multiple education and training resources, monitor their career development and receive personalized advice. The system allows civilian and military supervisors, and mentors to monitor the individual's goals and provide them developmental recommendations, notifications and career advice. Supervisors can view records for both their civilian and military employees.

ACT is also used to administer the Total Army Sponsorship Program which helps Soldiers, civilian employees, and families successfully relocate into and out of their commands. Soldiers in the ranks of private through colonel (excluding Soldiers arriving at Initial Military Training and Soldiers making Permanent Change of Station (PCS) moves to student detachments at long-term schools) and civilian employees through grade GS-15, undergoing a PCS move, are offered the opportunity to participate in the advance arrival sponsorship program.

CATEGORIES OF INDIVIDUALS COVERED BY THE SYSTEM:

Department of the Army military personnel (active duty, Army National Guard, and Army Reserve), Army Reserve Officers' Training Corps contracted cadets, and Army civilian employees.

CATEGORIES OF RECORDS IN THE SYSTEM:

Demographic data to include name, grade/rank/series, Social Security Number (SSN); DoD ID Number; Army Knowledge Online User Identification; primary email address; personal and duty phone numbers; service component, branch, personnel classification, military status, military occupational specialty; and unit of assignment.

Sponsorship data to include gaining unit and arrival date; contact information while on leave (address, phone number, email address); marital status; family members' name, age, gender, relationship, identification of exceptional family member(s); and a questionnaire to determine information needs pertaining to housing preferences, employment information for spouse, pets in the household, child care needs, and local schools.

Course and training data to include credit hours accumulated; examination and course completion status; professional development model; assignment history; student academic status; curricula, course descriptions and schedules; graduation dates; and individual goals.

RECORD SOURCE CATEGORIES:

The individual, DoD personnel (supervisors, mentors, training and human resources staff). Data is also extracted from: Army Knowledge Online (AKO), Integrated Total Army Personnel Database (ITAPDB), Headquarters Army Civilian Personnel System (HQ ACPERS), Defense Civilian Personnel Data System for National Guard (NG-DCPDS), Reserve Component Management System (RCMS), Army Training Requirements & Resources System (ATRRS), Army Learning Management System (ALMS), GoArmyEd, Force Management System website (FMSWEB), Credentialing Opportunities On-Line (COOL), Partnership for Youth Success (PaYS), Soldier Fitness Tracker (SFT), and Comprehensive Soldier Fitness (CSF).

ROUTINE USES OF RECORDS MAINTAINED IN THE SYSTEM, INCLUDING CATEGORIES OF USERS AND THE PURPOSES OF SUCH USES:

In addition to those disclosures generally permitted under 5 U.S.C. 552a(b) of the Privacy Act if 1974, as amended, the records contained herein may specifically be disclosed outside the DoD as a routine use pursuant to 5 U.S.C. 552a(b)(3) as follows:

a. To contractors, grantees, experts, consultants, students, and others performing or working on a contract, service, grant, cooperative agreement, or other assignment for the federal government when necessary to accomplish an agency function related to this system of records.

b. To the appropriate federal, state, local, territorial, tribal, or foreign, or international law enforcement authority or other appropriate entity where a record, either alone or in conjunction with other information, indicates a violation or potential violation of law, whether criminal, civil, or regulatory in nature.

c. To a Member of Congress or staff acting upon the Member's behalf when the Member or staff requests the information on behalf of, and at the request of, the individual who is the subject of the record.

d. To any component of the Department of Justice for the purpose of representing the DoD, or its components, officers, employees, or members in pending or potential litigation to which the record is pertinent.

e. In an appropriate proceeding before a court, grand jury, or administrative or adjudicative body or official, when the DoD or other Agency representing the DoD determines that the records are relevant and necessary to the proceeding; or in an appropriate proceeding before an administrative or adjudicative body when the adjudicator determines the records to be relevant to the proceeding.

f. To the National Archives and Records Administration for the purpose of records management inspections conducted under the authority of 44 U.S.C. 2904 and 2906.

g. To appropriate agencies, entities, and persons when (1) the DoD suspects or has confirmed that there has been a breach of the system of records; (2) the DoD has determined that as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

h. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

POLICIES AND PRACTICES FOR STORAGE OF RECORDS:

Paper printouts and electronic storage media.

POLICIES AND PRACTICES FOR RETRIEVAL OF RECORDS:

The retrieval of records may be made by use of the individual's name, SSN, DoD ID Number, or Army Knowledge Online User Identification.

POLICIES AND PRACTICES FOR RETENTION AND DISPOSAL OF RECORDS:

Records on local training, individual goals, and sponsorship are maintained until no longer needed for conducting business, but not longer than 6 years, then destroyed. Electronic media is deleted; paper printouts are shredded or burned.

ADMINISTRATIVE, TECHNICAL AND PHYSICAL SAFEGUARDS:

Paper and electronic records are protected in accordance with policies in DoD Manual 5200.01, Volume 4, DoD Information Security Program: Controlled Unclassified Information (CUI). ACT is designed where the PII is viewable only by the affected end user, their selected leader or mentor(s), Army staff, and system administrators. Access to the system is restricted to authorized personnel with Army Knowledge Online (AKO) authorization using sign-on and password, or a Common Access Card (CAC). After an end user is authenticated, they are presented data that is only relevant to them due to role-based security. System administrators are carefully selected and their assignment of their user IDs is managed and audited on a regular basis. ACT's data center uses multiple firewalls and an intrusion detection system (IDS) to protect the data. Furthermore, ACT encrypts both data in transit and data at rest. Records are maintained within secured buildings in areas accessible only to persons having an official need-to-know and who are properly trained and screened.

RECORDS ACCESS PROCEDURES:

Individuals seeking access to information about themselves contained in this system should address written inquiries to the Commander, Headquarters, U.S. Army Training and Doctrine Command, Institute of Noncommissioned Officer Professional Development Office (ATCG-NCN), 950 Jefferson Ave., Fort Eustis, VA 23604-5704.

Individual should provide full name, SSN or DoD ID number, military status, or other information verifiable from the record itself.

In addition, the requester must provide either a notarized signature or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The Army's rules for accessing records, contesting contents, and appealing initial agency determinations are contained in 32 CFR part 505, the Army Privacy Program and AR 25-22, The Army Privacy Program, or may be obtained from the system manager.

NOTIFICATION PROCEDURES:

Individuals seeking to determine whether information about themselves is contained in this system should address written inquiries to the Commander, Headquarters, U.S. Army Training and Doctrine Command, Institute of Noncommissioned Officer Professional Development Office (ATCG-NCN), 950 Jefferson Ave., Fort Eustis, VA 23604-5704.

Individuals should provide full name, SSN, or DoD ID number, military status, or other information verifiable from the record itself.

In addition, the requester must provide either a notarized signature or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

EXEMPTIONS PROMULGATED FOR THE SYSTEM:

None.

HISTORY:

This system of records notice supersedes all versions previously published in the Federal Register (January 24, 2017, 82 FR 8179; May 9, 2011, 76 FR 26714; April 30, 2009, 74 FR 19951).

[FR Doc. 2018-13412 Filed 6-21-18; 8:45 am]

BILLING CODE 5001-06-P